DEPARTMENT OF COMMERCE

International Trade Administration

Participation Agreement and Trade Mission Application; Comment Request

ACTION: Proposed collection; comment request.

SUMMARY: The Department of Commerce, as part of its continuing effort to reduce paperwork and respondent burdens, invites the general public and other Federal agencies to take this opportunity to comment on the continuing information collections, as required by the Paperwork Reduction Act of 1995, Pub. L. 104-13 (44 U.S.C. 3506 (2) (A)).

DATES: Written comments must be submitted on or before January 21, 2003.

ADDRESSES: Direct all written comments to Diana Hynek, Departmental Paperwork Clearance Officer, Department of Commerce, Room 6625, 14th & Constitution Avenue, NW., Washington, DC 20230. Phone number: (202) 482-0266. e-mail: dhynek@doc.gov.

FOR FURTHER INFORMATION CONTACT: Request for additional information or copies of the information collection instrument and instructions should be directed to: Joseph J. English, U.S. & Foreign Commercial Service, Export Promotion Services, Room 2110, 14th & Constitution Avenue, NW., Washington, DC 20230; Phone number: (202) 482-3334, and fax number: (202) 482-0115.

SUPPLEMENTARY INFORMATION:

I. Abstract

The ITA-4008P, AParticipation Agreement”, is the vehicle by which individual firms agree to participate in any of ITA's trade promotion program, and record their required participation fee to the U.S. Department of Commerce (DOC). Together with the relevant ITA-4008P-A, AConditions of Participation”, it forms a contract between the individual firm and the DOC. The ITA-4008P-1, ATrade Mission Application”, is used to solicit information from firms seeking to participate in DOC overseas trade missions covered by the Statement of Policy Governing Overseas Trade Missions of the Department of Commerce issued on March 3. 1997. Trade Mission participants are required to complete the Forms ITA-4008P, ITA-4008P-1, and ITA-4008P-A. Other DOC trade event (not trade mission) participants complete Forms ITA-4008P and ITA-4008P-A.

II. Method of Collection

The forms are sent by request to potential U.S. firms.

III. Data

OMB Number: 0625-0147.

Form Number: ITA-4008P, ITA-4008P-1 and ITA-4008P-A.

Type of Review: Regular Submission.

Affected Public: Business or other for profit.

Estimated Number of Respondents: 7,500.

Estimated Time Per Response: 20-70 minutes.

Estimated Total Annual Burden Hours: 2,792 hours.

Estimated Total Annual Costs: The estimated annual cost for this collection is $150,315.00 ($100,495.00 for respondents and $56,720.00 for federal government).

IV. Request for Comments

Comments are invited on (a) Whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection. They also will become a matter of public record.

Dated: November 5, 2002.
Madeleine Clayton,
Management Analyst, Office of the Chief Information Officer.

[FR Doc. 02-29201 Filed 11-18-02; 8:45 am]

BILLING CODE 3510-FP-P